DEPARTMENT OF JUSTICE

Notice of Lodging of Consent Decree Pursuant to the Comprehensive Environmental Response, Compensation, and Liability Act

Notice is hereby given that an amended consent decree in United States v. Pneumo Abex Corporation, et al., Civil Action No. 2-96-CV-27 (E.D. Va.) was lodged with the court on March 15, 2005.

The proposed amended consent decree modifies the remedy to be performed at the Abex Superfund Site Portsmouth, Virginia to conform that remedy to the future land use of a portion of the site, which will be commercial/industrial, rather than residential. The modified remedy is called for in an Explanation of Significant Differences issued by the United States Environmental Protection Agency under Section 117 of the Comprehensive Environmental Response, Compensation and Liability Act, as amended (“CERCLA”), 42 U.S.C. 9617.

The Department of Justice will receive, for a period of thirty (30) days from the date of this publication, comments relating to the proposed consent decree. Comments should be addressed to the Assistant Attorney General, Environment and Natural Resources Division, P.O. Box 7611, U.S. Department of Justice, Washington, DC 2004, and should refer to United States v. Pneumo Abex Corporation, et al., DOJ Ref. #90-11-3-255A.

The proposed consent decree may be examined and copied at the Office of the United States Attorney, Main Street Centre, 600 E. Main Street, Richmond, VA 23219; or at the Region III Office of the Environmental Protection Agency, c/o Marcia P. Everett, Senior Assistant Regional Counsel, 1650 Arch Street, Philadelphia, PA 19103. During the public comment period, the amended consent decree, may also be examined on the following Department of Justice Web site, http://www.usdoj.gov/enrd/open.html. A copy of the amended decree may also be obtained by mail from the Consent Decree Library, P.O. Box 7611, U.S. Department of Justice, Washington, DC 20044-7611 or by faxing or e-mailing a request to Tonia Fleetwood tonia.fleetwood@usdoj.gov), fax no. (202) 514-0097, phone confirmation number (202) 514-1547. In requesting a copy from the Consent Decree Library, please enclose a check in the amount of $41.00 (25 cents per page reproduction cost) payable to the U.S. Treasury.

Robert Brook,
Assistant Chief, Environmental Enforcement Section, Environment and Natural Resources Division.

[FR Doc. 05-7470 Filed 4-13-05; 8:45 am]

BILLING CODE 4410-15-M